FEDERAL EMERGENCY MANAGEMENT AGENCY

Partially Open Meeting, Board of Visitors for the National Fire Academy

AGENCY: Federal Emergency Management Agency (FEMA).

ACTION: Notice of partially open meeting.

SUMMARY: In accordance with section 10 (a) (2) of the Federal Advisory Committee Act, 5 U.S.C. App. 2, FEMA announces the following committee meeting:

Name: Board of Visitors for the National Fire Academy.

Dates of Meeting: March 16-18, 2000.

Place: Building J, Room 268, National Emergency Training Center, Emmitsburg, Maryland.

Time:

March 16, 2000, 8:30 a.m.-10:30 a.m. (Closed Meeting)

March 16, 2000, 10:45 a.m.-5 p.m. (Open Meeting)

March 17, 2000, 8:30 a.m.-9 p.m. (Open Meeting)

March 18, 2000, 8:30 a.m.-12 noon (Open Meeting)

Proposed Agenda: March 16, (Closed Meeting From 8:30 a.m.-10:30 a.m., to review Fiscal Years 2000 and 2001 budgetary and procurement recommendations.) March 16, 10:45 a.m.-5 p.m., Review National Fire Academy Program Activities. March 17-18, Finish Review of National Fire Academy Program Activities.

SUPPLEMENTARY INFORMATION: The meeting will be open to the public (except as noted above) with seating available on a first-come, first-served basis. Members of the general public who plan to attend the meeting should contact the Office of the Superintendent, National Fire Academy, U.S. Fire Administration, 16825 South Seton Avenue, Emmitsburg, MD 21727, (301) 447-1117, on or before March 10, 2000.

Minutes of the meeting will be prepared and will be available for public viewing in the Office of the Chief Operating Officer, U.S. Fire Administration, Federal Emergency Management Agency, Emmitsburg, Maryland 21727. Copies of the minutes will be available upon request within 60 days after the meeting.

Dated: February 10, 2000.
Kenneth O. Burris, Jr.
Chief Operating Officer.

[FR Doc. 00-4076 Filed 2-18-00; 8:45 am]

BILLING CODE 6718-01-P